DEPARTMENT OF THE TREASURY

Office of Foreign Assets Control

31 CFR Part 591

Publication of Venezuela Sanctions Regulations Web General Licenses 29, 30, 30A, 31, and 31A

AGENCY: Office of Foreign Assets Control, Treasury.

ACTION: Publication of web general licenses.

SUMMARY: The Department of the Treasury's Office of Foreign Assets Control (OFAC) is publishing five general licenses (GLs) issued in the Venezuela Sanctions program: GLs 29, 30, 30A, 31, and 31A, each of which was previously made available on OFAC's website.

DATES: GLs 29, 30, and 31 were issued on August 5, 2019. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On August 5, 2019, OFAC issued GL 29 to authorize certain transactions otherwise prohibited by Executive Orders (E.O.s) 13808 of August 24, 2017, “Imposing Additional Sanctions with Respect to the Situation in Venezuela” (82 FR 41155, August 29, 2017), and 13884 of August 5, 2019, “Blocking Property of the Government of Venezuela” (84 FR 38843, August 7, 2019). Also on August 5, 2019, OFAC issued GL 30 to authorize certain transactions otherwise prohibited by E.O. 13884. Also on August 5, 2019, OFAC issued GL 31 to authorize certain transactions otherwise prohibited by E.O.s 13850 of November 1, 2018, “Blocking Property of Additional Persons Contributing to the Situation in Venezuela” (83 FR 55243, November 2, 2018), and 13884.

On November 22, 2019, OFAC incorporated the prohibitions of E.O.s 13808, 13850, and 13884, as well as any other Executive orders issued pursuant to the national emergency declared in E.O. 13692 of March 8, 2015, “Blocking Property and Suspending Entry of Certain Persons Contributing to the Situation in Venezuela,” into the Venezuela Sanctions Regulations, 31 CFR part 591 (VSR). Subsequently, OFAC issued one further iteration of GL 30 and two further iterations of GL: on February 2, 2021, OFAC issued GL 30A, which superseded GL 30 and authorized certain transactions otherwise prohibited by E.O. 13850 and E.O. 13884; on January 4, 2021, OFAC issued GL 31A, which superseded GL 31; and on January 9, 2023, OFAC issued GL 31B, which superseded GL 31A.

Each GL was made available on OFAC's website (www.treas.gov/ofac) when it was issued. The text of GLs 29, 30, 30A, 31, and 31A is provided below. (GL 31B was published in a prior issue of the Federal Register.)

OFFICE OF FOREIGN ASSETS CONTROL

Executive Order 13808 of August 24, 2017

Imposing Additional Sanctions With Respect to the Situation in Venezuela

Executive Order of August 5, 2019

Blocking Property of the Government of Venezuela

GENERAL LICENSE NO. 29

Certain Transactions Involving the Government of Venezuela in Support of Certain Nongovernmental Organizations' Activities Authorized

(a) Except as provided in paragraph (c), all transactions involving the Government of Venezuela prohibited by Executive Order (E.O.) of August 5, 2019 or E.O. 13808, as amended by E.O. 13857 of January 25, 2019, that are ordinarily incident and necessary to the activities described in paragraph (b) by nongovernmental organizations are authorized, including processing and transfers of funds, and payment of taxes, fees, and import duties to, and purchase or receipt of permits, licenses, or public utility services from, the Government of Venezuela.

(b) The activities referenced in paragraph (a) are as follows:

(1) Activities to support humanitarian projects to meet basic human needs in Venezuela, including drought and flood relief, the provision of health services, assistance for vulnerable populations including individuals with disabilities and the elderly, environmental programs, and food, nutrition, and medicine distribution;

(2) Activities to support democracy building in Venezuela, including activities to support rule of law, citizen participation, government accountability, universal human rights and fundamental freedoms, access to information, and civil society development projects;

(3) Activities to support education in Venezuela, including combating illiteracy, increasing access to education, international exchanges, and assisting education reform projects;

(4) Activities to support non-commercial development projects directly benefiting the Venezuelan people, including preventing infectious disease and promoting maternal/child health, sustainable agriculture, and clean water assistance; and

(5) Activities to support environmental protection in Venezuela, including the preservation and protection of threatened or endangered species and the remediation of pollution or other environmental damage.

(c) This general license does not authorize any transactions or dealings otherwise prohibited by E.O. of August 5, 2019, or E.O. 13850 of November 1, 2018, E.O. 13835 of May 21, 2018, E.O. 13827 of March 19, 2018, E.O. 13808, or E.O. 13692 of March 8, 2015, each as amended by E.O. 13857 of January 25, 2019, or any part of 31 CFR chapter V, or any transactions or dealings with any blocked person other than the Government of Venezuela persons described in paragraph (a) of this general license.

Note to General License No. 29: Nothing in E.O. of August 5, 2019 prohibits transactions related to the provision of articles such as food, clothing, and medicine intended to be used to relieve human suffering. See Section 5 of E.O. of August 5, 2019. See also Venezuela-Related General License No. 4C (relating to exportation or reexportation of agricultural commodities, medicine, medical devices, replacement parts and components for medical devices, and software updates for medical devices).

Andrea Gacki,

Director, Office of Foreign Assets Control.

Dated: August 5, 2019.

OFFICE OF FOREIGN ASSETS CONTROL

Executive Order of August 5, 2019

Blocking Property of the Government of Venezuela

GENERAL LICENSE NO. 30

Authorizing Certain Transactions Involving the Government of Venezuela Necessary to Port and Airport Operations

(a) Except as provided in paragraph (b) of this general license, all transactions and activities involving the Government of Venezuela prohibited by Executive Order (E.O.) of August 5, 2019 that are ordinarily incident and necessary to operations or use of ports and airports in Venezuela are authorized.

(b) This general license does not authorize:

(1) Any transactions or dealings related to the exportation or reexportation of diluents, directly or indirectly, to Venezuela; or

(2) Any transactions or dealings otherwise prohibited by E.O. of August 5, 2019, or E.O. 13850 of November 1, 2018, E.O. 13835 of May 21, 2018, E.O. 13827 of March 19, 2018, E.O. 13808 of August 24, 2017, or E.O. 13692 of March 8, 2015, each as amended by E.O. 13857 of January 25, 2019, or any part of 31 CFR chapter V, or any transactions or dealings with any blocked person other than the Government of Venezuela persons described in paragraph (a) of this general license.

Note to General License No. 30: Nothing in this general license relieves any exporter from compliance with the requirements of other Federal agencies, including the Department of Commerce's Bureau of Industry and Security.

Andrea Gacki,

Director, Office of Foreign Assets Control.

Dated: August 5, 2019.

OFFICE OF FOREIGN ASSETS CONTROL

Venezuela Sanctions Regulations

31 CFR Part 591

GENERAL LICENSE NO. 30A

Authorizing Certain Transactions Necessary to Port and Airport Operations

(a) Except as provided in paragraph (c) of this general license, all transactions and activities involving the Government of Venezuela prohibited by Executive Order (E.O.) 13884 of August 5, 2019, as incorporated into the Venezuela Sanctions Regulations, 31 CFR part 591 (the VSR), that are ordinarily incident and necessary to operations or use of ports and airports in Venezuela are authorized.

(b) Except as provided in paragraph (c) of this general license, all transactions and activities prohibited by E.O. 13850 of November 1, 2018, as amended by E.O. 13857 of January 25, 2019, and incorporated into the VSR, involving the Instituto Nacional de los Espacios Acuaticos (INEA), or any entity in which INEA owns, directly or indirectly, a 50 percent or greater interest, that are ordinarily incident and necessary to operations or use of ports and airports in Venezuela are authorized.

(c) This general license does not authorize:

(1) Any transactions or activities related to the exportation or reexportation of diluents, directly or indirectly, to Venezuela; or

(2) Any transactions or activities otherwise prohibited by the VSR, or any other part of 31 CFR chapter V, or any transactions or activities with any blocked person other than INEA, or any entity in which INEA owns, directly or indirectly, a 50 percent or greater interest, or any Government of Venezuela person that is blocked solely pursuant to E.O. 13884.

(d) Effective February 2, 2021, General License No. 30, dated August 5, 2019, is replaced and superseded in its entirety by this General License No. 30A.

Note to General License No. 30A: Nothing in this general license relieves any exporter from compliance with the requirements of other Federal agencies, including the Department of Commerce's Bureau of Industry and Security.

Bradley T. Smith,

Acting Director, Office of Foreign Assets Control.

Dated: February 2, 2021.

OFFICE OF FOREIGN ASSETS CONTROL

Executive Order 13850 of November 1, 2018

Blocking Property of Additional Persons Contributing to the Situation in Venezuela

Executive Order of August 5, 2019

Blocking Property of the Government of Venezuela

GENERAL LICENSE NO. 31

Certain Transactions Involving the Venezuelan National Assembly, the Interim President of Venezuela, and Certain Other Persons Authorized

(a) Except as provided in paragraph (c) of this general license, U.S. persons are authorized to engage in all transactions prohibited by Executive Order (E.O.) of August 5, 2019 involving the following persons:

(1) The Venezuelan National Assembly, including its members and staff, and any persons appointed or designated by the National Assembly to act on behalf of the Government of Venezuela; and

(2) The Interim President of Venezuela, Juan Gerardo Guaidó Marquez (Guaidó), and any official, designee, or representative appointed or designated by Guaidó to act on behalf of the Government of Venezuela, including the Special Attorney General, and any staff of the foregoing individuals; any ambassador or other representative to the United States or to a third country appointed by Guaidó, and any staff of such ambassador or representative; any representative to an international organization appointed by Guaidó, and any staff of such representative; any person appointed by Guaidó to the board of directors (including any ad hoc board of directors) or appointed as an executive officer of a Government of Venezuela entity (including entities owned or controlled, directly or indirectly, by the Government of Venezuela); and any other person that is appointed or designated by any of the foregoing persons to act on behalf of the Government of Venezuela.

(b) Except as provided in paragraph (c) of this general license, U.S. persons are authorized to engage in all transactions involving any person appointed by Guaidó to the board of directors (including any ad hoc board of directors) or appointed as an executive officer of a Government of Venezuela entity (including entities owned or controlled, directly or indirectly, by the Government of Venezuela) prohibited by E.O. 13850, as amended by E.O. 13857 of January 25, 2019.

(c) This general license does not authorize:

(1) Any transaction that is otherwise prohibited under E.O. of August 5, 2019, or E.O. 13850, E.O. 13835 of May 21, 2018, E.O. 13827 of March 19, 2018, E.O. 13808 of August 24, 2017, or E.O. 13692 of March 8, 2015, each as amended by E.O. 13857, or any part of 31 CFR chapter V, or any transactions or dealings with any blocked person other than the Government of Venezuela persons described in paragraph (a) or persons appointed by Guaidó as described in paragraph (b) of this general license; or

(2) Any transaction involving the Venezuelan National Constituent Assembly convened by Nicolas Maduro, including its members and staff.

Andrea Gacki,

Director, Office of Foreign Assets Control.

Dated: August 5, 2019.

OFFICE OF FOREIGN ASSETS CONTROL

Venezuela Sanctions Regulations

31 CFR Part 591

GENERAL LICENSE NO. 31A

Certain Transactions Involving the IV Venezuelan National Assembly, the Interim President of Venezuela, and Certain Other Persons Authorized

(a) Except as provided in paragraph (c) of this general license, U.S. persons are authorized to engage in all transactions and activities prohibited by Executive Order (E.O.) 13884 of August 5, 2019, as incorporated into the Venezuela Sanctions Regulations, 31 CFR part 591 (the VSR), involving the following persons:

(1) The IV Venezuelan National Assembly seated on January 5, 2016 (“IV National Assembly”) and its Delegated Commission, including its respective members and staff, and any persons appointed or designated by the IV National Assembly or its Delegated Commission to act on behalf of the Government of Venezuela; and

(2) The current Interim President of Venezuela, Juan Gerardo Guaidó Marquez (Guaidó), and any official, designee, or representative appointed or designated by Guaidó to act on behalf of the Government of Venezuela, including the Special Attorney General, and any staff of the foregoing individuals; any ambassador or other representative to the United States or to a third country appointed by Guaidó, and any staff of such ambassador or representative; any representative to an international organization appointed by Guaidó, and any staff of such representative; any person appointed by Guaidó to the board of directors (including any ad hoc board of directors) or appointed as an executive officer of a Government of Venezuela entity (including entities owned or controlled, directly or indirectly, by the Government of Venezuela); and any other person that is appointed or designated by any of the foregoing persons to act on behalf of the Government of Venezuela.

(b) Except as provided in paragraph (c) of this general license, U.S. persons are authorized to engage in all transactions and activities involving any person appointed by Guaidó, the IV National Assembly, or its Delegated Commission to the board of directors (including any ad hoc board of directors) or appointed as an executive officer of a Government of Venezuela entity (including entities owned or controlled, directly or indirectly, by the Government of Venezuela) prohibited by E.O. 13850 of November 1, 2018, as amended by E.O. 13857 of January 25, 2019, and incorporated into the VSR.

(c) This general license does not authorize:

(1) Any transaction or activity involving the Venezuelan National Constituent Assembly convened by Nicolas Maduro or the illegitimate National Assembly scheduled to be seated on January 5, 2021, including their respective members and staff; or

(2) Any transactions or activities otherwise prohibited by the VSR, any other part of 31 CFR chapter V, or any transactions or activities with any blocked persons other than the Government of Venezuela persons identified in paragraph (a) or (b) of this general license.

(d) Effective January 4, 2021, General License No. 31, dated August 5, 2019, is replaced and superseded in its entirety by this General License No. 31A.

Bradley T. Smith,

Deputy Director, Office of Foreign Assets Control.

Dated: January 4, 2021.

Andrea M. Gacki,
Director, Office of Foreign Assets Control.

[FR Doc. 2023-06970 Filed 4-3-23; 8:45 am]

BILLING CODE 4810-AL-P